ENVIRONMENTAL PROTECTION AGENCY

[EPA-HQ-OLEM-2018-0305, FRL- 9991-77-OLEM]

Agency Information Collection Activities; Proposed Collection; Comment Request; Guidance for Applicants Requesting To Treat/Dispose of PCBs Using Incineration or an Alternative Method

AGENCY: Environmental Protection Agency (EPA).

ACTION: Notice.

SUMMARY: The Environmental Protection Agency (EPA) is planning to submit a new information collection request (ICR) for Guidance for Applicants Requesting to Treat/Dispose of PCBs Using Incineration or an Alternative Method (EPA ICR No. 2596.01, OMB Control No. 2050-NEW) to the Office of Management and Budget (OMB) for review and approval in accordance with the Paperwork Reduction Act (PRA). Before doing so, the EPA is soliciting public comments on specific aspects of the proposed information collection as described below. This is a request of a new collection. An Agency may not conduct or sponsor, and a person is not required to respond to a collection of information, unless it displays a currently valid OMB control number.

DATES: Comments must be submitted on or before June 17, 2019.

ADDRESSES: Submit your comments, referencing by Docket ID No. EPA-HQ-OLEM-2018-0305, online using www.regulations.gov (our preferred method), by email to rcra-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Josh Smeraldi, Office of Resource Conservation and Recovery (Mail Code 5303P), U.S. Environmental Protection Agency, 1200 Pennsylvania Ave. NW, Washington, DC 20460; telephone number: 703-308-0441; email address: smeraldi.josh@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC 20460. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: Guidance documents were developed in 1986 for persons applying to EPA for approval to dispose of PCBs using incineration (§ 761.70) or a method alternative to incineration (§ 761.60(e)). The guidances are split into two document (thermal and non-thermal) and they present and discuss the format, content, and suggested level of detail for approval applications, test plans, and test reports.

EPA is currently updating these guidance documents and will combine into a single document. This is a new Information Collection Request (ICR) that addresses reporting and recordkeeping requirements found in the updated guidance document identified above. The previous guidance documents released in 1986 were not required to conduct an ICR so a new ICR will be created for the updated guidance. While use of the updated guidance document is voluntary, the PRA still requires the reporting and recordkeeping of this guidance to be determined. This includes reading and using the tables provided in the guidance.

The overall reporting and recordkeeping requirements of a §§ 761.60(e) and 761.70 approval is reported in a separate ICR, ICR No.1446.12 (PCBs, Consolidated Reporting and Recordkeeping Requirements found in docket EPA-HQ-2017-0647). Although this ICR (2596.01) includes a burden increase in terms of reviewing and using the guidance document, EPA notes that the guidance will reduce the overall burden in ICR 1446.12 to respondents applying for a PCB disposal approval under §§ 761.60(e) and 761.70 through improved clarification and streamlining of the approval process.

Form Numbers: None.

Respondents/affected entities: Entities potentially affected by this ICR include respondents applying to the EPA for approval to treat/dispose PCBs using incinerator or an alternative method. This likely includes entities within the Waste Management and Remediation Services (NAICS 562) and Professional, Scientific, and Technical Services (NAICS 54) sectors and includes private entities.

Respondent's obligation to respond: Voluntary, for use in applying to EPA for approval under §§ 761.60(e) or 761.70.

Estimated number of respondents: Estimated eight respondents annually.

Frequency of response: As needed and desired by the respondent in applying to EPA for approval under §§ 761.60(e) or 761.70.

Total estimated burden: Burden is defined at 5 CFR 1320.03(b). The total estimated annual burden on applicants using the guidance is 9.9 hours per applicant.

Total estimated cost: The total estimated annualized labor costs for applicants using the guidance is $776 per applicant. The annualized capital and O&M costs are $0.

Dated: April 10, 2019.
Barnes Johnson,
Director, Office of Resource Conservation and Recovery.

[FR Doc. 2019-07567 Filed 4-15-19; 8:45 am]

BILLING CODE 6560-50-P